DEPARTMENT OF HOMELAND SECURITY

Federal Emergency Management Agency

[Docket ID: [FEMA-2013-0021] OMB No. 1660-0115]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the information collection activities required to administer the Environmental and Historic Preservation Environmental Screening Form.

DATES: Comments must be submitted on or before July 29, 2013.

ADDRESSES: To avoid duplicate submissions to the docket, please use only one of the following means to submit comments:

(1) Online. Submit comments at www.regulations.gov under Docket ID FEMA-2013-0021. Follow the instructions for submitting comments.

(2) Mail. Submit written comments to Docket Manager, Office of Chief Counsel, DHS/FEMA, 500 C Street SW., Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Tom Harrington, Branch Chief, FEMA, Grant Programs Directorate, (202) 786-9791 or Tom.Harrington@fema.dhs.gov. You may contact the Records Management Division for copies of the proposed collection of information at facsimile number (202) 646-3347 or email address: FEMA-Information-Collections-Management@dhs.gov.

SUPPLEMENTARY INFORMATION: FEMA, Grant Programs Directorate (GPD) awards thousands of grants and each year through various grant programs. These programs award funds for projects used to improve homeland security and emergency preparedness. The National Environmental Policy Act of 1969 (NEPA), Public Law 91-190, Sec. 102(B) and (C), 42 U.S.C. 4332, the National Historic Preservation Act of 1966 (NHPA), Public Law 89-665, 16 U.S.C. 470f and a variety of other environmental and historic preservation laws and Executive Orders (EO) require the Federal government to examine the potential impacts of its proposed actions on communities, public health and safety, and cultural, historic, and natural resources prior to undertaking those actions. The GPD process of considering these potential impacts is called an environmental and historic preservation (EHP) review which is employed to examine compliance with multiple EHP authorities through one consolidated process. With input from grantees, the EHP Screening Form was revised for clarity and ease of use. The 2013 Screening Form does not require any new information, and includes an appendix with guidance on providing photographs with the EHP submission. Grantees are no longer required to submit floodplain and wetlands maps, or information about the proposed project's relationship to an existing master plan.

Collection of Information

Title: Environmental and Historic Preservation Screening Form.

OMB Number: 1660-0115.

Type of Information Collection: Revision of a currently approved information collection.

FEMA Forms: FEMA Form 024-0-1, Environmental and Historic Preservation Screening Form.

Abstract: NEPA requires that each Federal agency to examine the impact of its actions (including the actions of grantees using grant funds) on the human environment, to look at potential alternatives to that action, and to inform both decision-makers and the public of those impacts through a transparent process. This Screening Form will facilitate FEMA's review of grantees actions in FEMA's effort to comply with the environmental requirements.

Affected Public: State, Local or Tribal Government; not-for-profit institutions.

Number of Respondents: 3,000.

Number of Responses: 3,000.

Estimated Total Annual Burden Hours: 24,000 hours.

Estimated Annualized Burden Hours and Costs
Type of respondent | Form name/Form number | No. of respondents | No. of responses per respondent | Total No. of responses | Avg. burden per response (in hours) | Total annual burden (in hours) | Avg. hourly wage rate | Total annual respondent cost
State, Local or Tribal Government | Environmental and Historic Preservation Screening Form/FEMA Form 024-0-1 | 2,800 | 1 | 2,800 | 8 hours | 22,400 | $42.10 | $943,040
Not-for-Profit Institutions | Environmental and Historic Preservation Screening Form/FEMA Form 024-0-1 | 200 | 1 | 200 | 8 hours | 1,600 | 42.10 | 67,360
Total |  | 3,000 |  | 3,000 |  | 24,000 |  | 1,010,400
• Note: The “Avg. Hourly Wage Rate” for each respondent includes a 1.4 multiplier to reflect a fully-loaded wage rate.

Estimated Cost: The estimated annual cost to respondents for the hour burden is $1,010,400.00. There are no annual costs to respondents operations and maintenance costs for technical services. There is no annual start-up or capital costs. The cost to the Federal Government is $5,394,630.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 20, 2013.
Charlene D. Myrthil,
Director, Records Management Division, Mission Support Bureau, Federal Emergency Management Agency, Department of Homeland Security.

[FR Doc. 2013-12576 Filed 5-24-13; 8:45 am]

BILLING CODE 9111-19-P